NATIONAL AERONAUTICS AND SPACE ADMINISTRATION

[03-067]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: NASA Small Business Innovation Research Commercial Metrics.

OMB Number: 2700-0095.

Type of review: Revision.

Need and Uses: This collection is used to assess the contributions of NASA funded Small Business Innovation Research (SBIR) technology.

Affected Public: Business or other for-profit.

Number of Respondents: 1000.

Annual Responses: 200.

Hours Per Request: 1.

Annual Burden Hours: 200.

Frequency of Report: Every three years.

Dated: June 9, 2003.
Patricia L. Dunnington,
Chief Information Officer, Office of the Administrator.

[FR Doc. 03-14983 Filed 6-12-03; 8:45 am]

BILLING CODE 7510-01-P